DEPARTMENT OF JUSTICE

[AAG/A Order No. 209-2000]

Privacy Act of 1974; System of Records

Pursuant to the Privacy Act of 1974 (5 U.S.C. 552a), notice is hereby given that the Department of Justice proposes to establish a new system of records to be maintained by the 94 United States Attorneys' offices nationwide and the Executive Office for United States Attorneys (EOUSA) in Washington, D.C.

The United States Attorneys' Office, Giglio Information Files, JUSTICE/USA 018, is a new system of records for which no public notice consistent with the provisions of 5 U.S.C. 552(e)(4) and (11) has been published. This system has been established to enable the United States Attorneys' offices to maintain and disclose records of potential impeachment information received from the Department's investigative agencies, in accordance with the United States Supreme Court case of Giglio v. United States, 405 U.S. 150 (1972). It permits the United States Attorneys' offices to acquire, maintain, and disclose for law enforcement purposes, records obtained from federal and state agencies' personnel records relating to impeachment information that is material to the defense.

Title 5 U.S.C. 552a(e)(4) and (11) provide that the public be given a 30-day period in which to comment on the proposed new system. The Office of Management and Budget (OMB), which has oversight responsibilities under the Act, requires a 40-day period in which to conclude its review of the system. Therefore, please submit any comments by January 2, 2001. The public, OMB, and the Congress are invited to submit written comments to Mary Cahill, Management Analyst, Management and Planning Staff, Justice Management Division, Department of Justice, Washington, D.C. 20530 (Room 1400, National Place Building).

In accordance with 5 U.S.C. 552a(r), the Department has provided a report to OMB and the Congress on the proposed modification.

Dated: November 21, 2000.
Stephen R. Colgate,
Assistant Attorney General for Administration.

JUSTICE/USA-018

SYSTEM NAME:

United States Attorney's Office, Giglio Information Files.

SYSTEM LOCATION:

Ninety-four United States Attorney's offices (see Appendix identified as Justice/USA-999, last published 2-3-93 (58 FR 6983)) and offices posted on the Internet web site of the Executive Office for United States Attorneys (EOUSA) at http://www.usdoj.gov/eousa; and the EOUSA, U.S. Department of Justice, 950 Pennsylvania Avenue, NW, Washington, DC 20530.

CATEGORIES OF INDIVIDUALS COVERED BY THE SYSTEM:

Individuals who may serve as affiants or testify as witnesses in criminal proceedings brought by the ninety-four United States Attorneys' offices.

CATEGORIES OF RECORDS IN THE SYSTEM:

This system contains potential witness impeachment information including records of disciplinary actions. Records will include, but are not limited to: (a) Specific instances of witness conduct that may be used for the purpose of attacking the witness' credibility or character for truthfulness; (b) evidence in the form of opinion as to a witness' character or reputation for truthfulness; (c) prior inconsistent statements; and (d) information that may be used to suggest that a witness is biased. The system may also contain any judicial rulings, related pleadings, correspondence, or memoranda pertaining to the relevant criminal case.

AUTHORITY FOR MAINTENANCE OF THE SYSTEM:

This system is established and maintained under the authority of 5 U.S.C. 516 and 547.

PURPOSE OF THE SYSTEM:

This system has been established to enable the Department of Justice's prosecuting offices to maintain and disclose records of potential impeachment information from the Department's investigative agencies, in accordance with Giglio v. United States, 405 U.S. 150 (1972).

It permits the United States Attorneys' offices to obtain information from federal and state agencies and to maintain and disclose for law enforcement purposes records of impeachment information that is material to the defense of federal criminal prosecutions.

Primary users of this system will be Requesting Officials, who are senior officials serving as the points of contact concerning potential impeachment information within each of the United States Attorneys' offices, and Assistant United States Attorneys who are prosecuting cases and have an obligation to disclose impeachment material under the Giglio decision.

ROUTINE USES OF RECORDS MAINTAINED IN THE SYSTEM, INCLUDING CATEGORIES OF USERS AND THE PURPOSES OF SUCH USES:

A record maintained in the system of records may be disseminated as a routine use of such record as follows:

(a) A record will be provided to a court and/or defense attorney in satisfaction of the Department's obligations under the Giglio decision.

(b) A record, or facts derived therefrom, may be disseminated in a proceeding before a court or adjudicative body before which the United States Attorney's office or the Executive Office for United States Attorneys is authorized to appear when (i) the United States Attorney's office or the Executive Office for United States Attorneys, or any subdivision thereof, or (ii) any employee of the United States Attorney's office or the Executive Office for United States Attorneys in his or her official capacity, or (iii) any employee of the United States Attorney's office or the Executive Office for United States Attorneys in his or her individual capacity where the Department of Justice has agreed to represent the employee, or (iv) the United States, or any agency or subdivision thereof, where the United States Attorney's office or the Executive Office for United States Attorneys determines that the litigation is likely to affect it or any of its subdivisions, is a party to litigation or has an interest in litigation and such records are determined by the United States Attorney's office or the Executive Office for United States Attorneys to be arguably relevant to the litigation;

(c) In any case in which there is an indication of a violation or potential violation of law, criminal or regulatory in nature, the record in question may be disseminated to the appropriate federal, state, local, or foreign agency charged with the responsibility for investigating or prosecuting such violation or charged with enforcing or implementing the law;

(d) In the course of investigating any potential or actual violation of any law, criminal, civil, or regulatory in nature, or during the course of a trial or hearing or the preparation for a trial or hearing for such violation, a record may be disseminated to a federal, state, local, or foreign agency, or to an individual or organization, if there is reason to believe that such agency, individual, or organization possesses information relating to the investigation, trial, or hearing and the dissemination is reasonably necessary to elicit such information or to obtain the cooperation of a witness or an informant;

(e) A record relating to a case or matter may be disseminated in connection with a federal, state, or local administrative or regulatory proceeding or hearing in accordance with the procedures governing such proceeding or hearing;

(f) A record relating to a case or matter may be disseminated in an appropriate federal, state, local, or foreign court or grand jury proceeding in accordance with established constitutional, substantive, or procedural law or practice;

(g) A record relating to a case or matter that has been referred by an agency for investigation, prosecution, or enforcement, or that involves a case or matter within the jurisdiction of an agency, may be disseminated to such agency to notify the agency of the status of the case or matter or of any decision or determination that has been made, or to make such other inquiries and reports as are necessary during the processing of the case or matter;

(h) Subject to the limitations of 28 CFR 50.2 and after a determination that release of the specific record in the context of a particular case would not constitute an unwarranted invasion of personal privacy, a record may be disseminated to the news media and public;

(i) Records not otherwise required to be released pursuant to 5 U.S.C. 552a may be made available to a Member of Congress or staff acting upon the Member's behalf when the Member or staff requests information on behalf of and at the request of the individual who is the subject of the record;

(j) A record may be disclosed as a routine use to the National Archives and Records Administration (NARA) and to the General Services Administration (GSA) in records management inspections conducted under the authority of 44 U.S.C. 2904 and 2906.

POLICIES AND PRACTICES FOR STORING, RETRIEVING, ACCESSING, RETAINING, AND DISPOSING OF RECORDS IN THE SYSTEM: STORAGE:

Generally, all records are recorded on basic paper/cardboard material and stored in file folders in file cabinets. Some offices also may maintain the records in electronic format available through the Requesting Official's computer terminal.

RETRIEVABILITY:

Records are retrieved primarily by the name of the prospective witness. A record within this system of records may be accessed within a United States Attorney's office by the Requesting Official or appropriate Assistant United States Attorney.

SAFEGUARDS:

Records in the system are confidential and are located in file cabinets in the United States Attorneys' offices. Offices are locked during non-working hours and are secured by either the Federal Protective Service, the United States Postal Service, or in a private building with controlled access to the various United States Attorneys' offices and the Executive Office for United States Attorneys. The ability to access electronically is restricted to those who have a valid ID and password. Authorized access is limited to those with a need-to-know and for the appropriate functions.

RETENTION AND DISPOSAL:

Records are to be retained and disposed of in accordance with agency retention plans. All records will also be maintained in accordance with the Attorney General's Giglio Policy found in the United States Attorney's Manual, Title 9, paragraph 5.100. Potential impeachment information, together with any judicial rulings, related pleadings, and related correspondence or memoranda, will be placed in the office's Giglio Information File; copies will be provided to the agency official that provided the information and to the employing agency official for retention. When an employee has retired and any litigation pending in the prosecuting office in which the employee could be an affiant or witness is resolved, the Requesting Official shall remove any record that can be accessed by the identity of the employee.

SYSTEM MANAGER(S) AND ADDRESS:

System Manager for the system in each office is the Giglio Requesting Official, as defined in the United States Attorney's Manual, Title 9, paragraph 5.100, for the United States Attorney for each district (see Appendix USA-999 or EOUSA Internet addresses at http://www.usdoj.gov/eousa).

NOTIFICATION PROCEDURES:

Address inquiries to the System Managers listed above.

RECORD ACCESS PROCEDURES:

Pursuant to 5 U.S.C. 552a(j)(2) and (k)(2), this record system has been exempted from the access provisions in 5 U.S.C. 552a(d).

CONTESTING RECORDS PROCEDURE:

Pursuant to 5 U.S.C. 552a(j)(2) and (k)(2), this record system has been exempted from the record contesting provisions in 5 U.S.C. 552a(d)(3)-(4).

RECORD SOURCE CATEGORIES:

Sources of records contained in this system include, but are not limited to, reports of federal, state and local law enforcement agencies; client agencies of the Department of Justice; other non-Department of Justice investigative agencies; data, memoranda and reports from the Court and agencies thereof; and the work product of Assistant United States Attorneys, Department of Justice attorneys and staff, and legal assistants working on particular cases.

SYSTEM EXEMPTED FROM CERTAIN PROVISIONS OF THE ACT:

The Attorney General has exempted this system from subsections (c)(4), (e)(2), (e)(5), and (g) of the Privacy Act, pursuant to 5 U.S.C. 552a(j)(2) and exempted this system from subsections (c)(3), (d), (e)(1), (e)(4)(G) and (H), and (f), pursuant to 5 U.S.C. 552a (j)(2) and (k)(2). These exemptions apply to the extent that information in the system is subject to exemption pursuant to 5 U.S.C. 552a (j)(2) and (k)(2). Rules have been promulgated in accordance with the requirements of 5 U.S.C. 553 (b), (c) and (e) and have been published in the Federal Register as of this date and proposed as additional to Title 28 Code of Federal Regulations (28 CFR part 16.81).

[FR Doc. 00-30609 Filed 11-30-00; 8:45 am]

BILLING CODE 4410-07-M